OVERSEAS PRIVATE INVESTMENT CORPORATION

Sunshine Notice—September 18, 2014 Board of Directors Meeting

TIME AND DATE: Thursday, September 18, 2014, 2 p.m. (Open Portion) 2:15 p.m. (Closed Portion).

PLACE: Offices of the Corporation, Twelfth Floor Board Room, 1100 New York Avenue NW., Washington, DC.

STATUS: Meeting Open to the Public from 2 p.m. to 2:15 p.m. Closed portion will commence at 2:15 p.m. (approx.).

MATTERS TO BE CONSIDERED:

1. President's Report

2. Confirmation—Mildred O. Callear as Vice President, Financial & Portfolio Management

3. Minutes of the Open Session of the June 12, 2014 Board of Directors Meeting

FURTHER MATTERS TO BE CONSIDERED: (Closed to the Public 2:15 p.m.):

1. Proposed FY 2016 Budget

2. Finance Project—Sub-Saharan Africa

3. Minutes of the Closed Session of the June 12, 2014 Board of Directors Meeting

4. Reports

5. Pending Projects

CONTACT PERSON FOR INFORMATION: Information on the meeting may be obtained from Connie M. Downs at (202) 336-8438.

Dated: August 28, 2014.
Connie M. Downs,
Corporate Secretary, Overseas Private Investment Corporation.

[FR Doc. 2014-20888 Filed 8-28-14; 4:15 pm]

BILLING CODE 3210-01-P